DEPARTMENT OF LABOR

Agency Information Collection Activities; Submission for OMB Review; Comment Request; Evaluation of the Youth CareerConnect (YCC) Grant Program, New Collection

AGENCY: Office of the Assistant Secretary for Policy, Chief Evaluation Office, Department of Labor.

ACTION: Notice of information collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents is properly assessed.

Currently, the Department of Labor is soliciting comments concerning the collection of follow-up survey data about the Evaluation of the Youth CareerConnect (YCC) Grant Program [SGA/DFA PY-13-01]. A copy of the proposed Information Collection Request (ICR) can be obtained by contacting the office listed in the addressee section of this notice.

DATES: Written comments must be submitted to the office listed in the addressee's section below on or before December 4, 2017.

ADDRESSES: You may submit comments by either one of the following methods:

Email: ChiefEvaluationOffice@dol.gov; Mail or Courier: Jessica Lohmann, Chief Evaluation Office, OASP, U.S. Department of Labor, Room S-2312, 200 Constitution Avenue NW., Washington, DC 20210. Instructions: Please submit one copy of your comments by only one method. All submissions received must include the agency name and OMB Control Number identified above for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Contact Jessica Lohmann by email at ChiefEvaluationOffice@dol.gov.

SUPPLEMENTARY INFORMATION:

I. Background: The proposed information collection activities described in this notice will provide data for the randomized controlled trial (RCT) and quasi-experimentally designed (QED) studies and implementation evaluation of the Youth CareerConnect program. In spring 2014, the Employment and Training Administration (ETA) in the U.S. Department of Labor (DOL) awarded a total of $107 million to 24 grantees to implement the YCC program. The program is a high school based initiative aimed at improving students' college and career readiness in particular employment sectors. The programs are redesigning the high school experience through partnerships with colleges and employers to provide skill-developing and work-based learning opportunities to help students prepare for jobs in high-demand occupations.

The evaluation will address three main research questions: (1) What was the impact of the YCC programs on students' short-term outcomes? (2) How were the YCC programs implemented? and (3) Did the effectiveness of YCC programs vary by student characteristics? The RCT and QED will estimate program effectiveness and will be carried out in a subset of YCC grantees. An implementation study will draw on data gathered from all YCC grantees.

This request is part of a larger study which has had other components approved under prior clearance numbers. The YCC Participant Tracking System (PTS) was approved on March 20, 2015 under OMB Control No 1291-0002. Data collection instruments used for the baseline portion of the RCT and the instruments used for the implementation study were approved on April 15, 2015 under OMB Control No 1291-0003.

This Federal Register Notice provides the opportunity to comment on the proposed data collection instrument that will be used in the RCT and QED:

• Student follow-up survey and student assent. The follow-up survey will be administered approximately 24-months following random assignment to students in the RCT treatment and control groups via web and telephone interviewing. This survey will collect information on experiences at school, behavior in school, activities, employment experience, and plans for future education. Additionally, as part of the follow-up survey instrument, all students will again be asked to assent to data collection.

II. Desired Focus of Comments: Currently, DOL is soliciting comments concerning the above data collection for the RCT portion of the YCC evaluation. DOL is particularly interested in comments that do the following:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology—for example, permitting electronic submission of responses.

III. Current Actions: At this time, the Department of Labor is requesting clearance for the student follow-up survey.

Type of Review: New information collection request.

OMB Control Number: 1290-0NEW.

Affected Public: Students and parents who previously applied for YCC program and district staff.

Estimated Total Burden Hours
Type of instrument | Total number respondents | Annual number of respondents | Number of responses per respondent | Average burden hour per response (hours) | Annual estimated burden hours | Total estimated burden hours
Student follow-up survey (including assent) | 432 | 144 | 1 | 0.58 | 84 | 252
Total | 432 | 144 | 1 | 0.58 | 84 | 252

Form(s): Total annual respondents: 144 students.

Annual Frequency: One time for all instruments.

Comments submitted in response to this request will be summarized and/or included in the request for Office of Management and Budget approval of the information collection request; they will also become a matter of public record.

Dated: September 20, 2017.
Molly Irwin,
Chief Evaluation Officer, U.S. Department of Labor.

[FR Doc. 2017-21217 Filed 10-2-17; 8:45 am]

BILLING CODE 4510-HX-P